DEPARTMENT OF STATE

[Public Notice 6741]

Shipping Coordinating Committee; Notice of Subcommittee Meeting

The Shipping Coordinating Committee (SHC) will conduct an open meeting at 11 a.m. on Wednesday, September 23, 2009, in Room 1422 of the United States Coast Guard Headquarters Building, 2100 Second Street, SW., Washington, DC 20593-0001. The primary purpose of the meeting is to prepare for the ninety-sixth Session of the International Maritime Organization (IMO) Legal Committee (LEG) to be held be held at the IMO Headquarters, United Kingdom, from October 5 to October 9, 2009.

The primary matters to be considered include:

—Adoption of the agenda

—Decisions of other IMO bodies

—Consideration and adoption of amendments to mandatory instruments

—Measures to enhance maritime security

—Goal-based new ship construction standards

—LRIT-related matters

—Technical assistance sub-programme in maritime safety and security

—Capacity-building for the implementation of new measures

—Role of the human element

—Formal safety assessment

—Piracy and armed robbery against ships

—General cargo ship safety

—Reports of six subcommittees—Ship design and equipment, Training and Watchkeeping, Radiocommunications and Search and Rescue, Flag State Implementation, Safety of Navigation, Stability, Load Lines and Fishing Vessel Safety, Dangerous Goods, Solid Cargoes and Containers

—Relations with other organizations

—Election of Chairman and Vice-Chairman for 2009

Members of the public may attend this meeting up to the seating capacity of the room. To facilitate the building security process, those who plan to attend should contact the meeting coordinator, Bronwyn G. Douglass, by e-mail at bronwyn.douglass@uscg.mil, by phone at (202) 372-3792, by fax at (202) 372-3972, or in writing at Commandant (CG-0941), U.S. Coast Guard, 2100 2nd Street, SW., STOP 7121, Washington, DC 20593-7121 not later than 72 hours before the meeting. Please note that due to security considerations, two valid, government issued photo identifications must be presented to gain entrance to the Headquarters building. The Headquarters building is accessible by taxi and privately owned conveyance (public transportation is not generally available). However, parking in the vicinity of the building is extremely limited. A member of the public needing reasonable accommodation should make his or her request by September 16th. Requests submitted after that date will be considered, but might not be able to be fulfilled. Additional information regarding this and other IMO SHC public meetings may be found at: http://www.uscg.mil/hq/cg5/imo.

Dated: September 2, 2009.
J. Trent Warner,
Executive Secretary, Shipping Coordinating Committee, Department of State.

[FR Doc. E9-21691 Filed 9-8-09; 8:45 am]

BILLING CODE 4710-09-P